ENVIRONMENTAL PROTECTION AGENCY

40 CFR Part 52

[EPA-R04-OAR-2020-0177; FRL-10014-29-Region 4]

Air Plan Approval; FL; GA; KY; MS; NC; SC: Definition of Chemical Process Plants Under State Prevention of Significant Deterioration Regulations

AGENCY: Environmental Protection Agency (EPA).

ACTION: Final rule.

SUMMARY: The Environmental Protection Agency (EPA) is approving revisions to the State Implementation Plans (SIP) for Florida, Georgia, the Jefferson County portion of Kentucky, Mississippi, North Carolina, and South Carolina. The SIP revisions incorporate changes to the definition of chemical process plants under the States' Prevention of Significant Deterioration (PSD) regulations. Consistent with an EPA regulation completed in 2007, EPA is approving the rules for Florida, Georgia, the Jefferson County portion of Kentucky, Mississippi, North Carolina, and South Carolina that modify the definition of chemical process plant to exclude ethanol manufacturing facilities that produce ethanol by natural fermentation processes. Approving these modified definitions clarifies that the PSD major source applicability threshold in the SIPs for these ethanol plants is 250 tons per year (tpy) (rather than 100 tpy) and removes the requirement to include fugitive emissions when determining if the source is major for PSD. EPA concludes that the changes to the state and local rules are approvable because the Agency believes that they are consistent with EPA regulations governing state PSD programs and will not interfere with any applicable requirement concerning attainment and reasonable further progress (as defined in section 171 of the Clean Air Act (CAA or Act)), or any other applicable requirement of the CAA.

DATES: This rule is effective October 16, 2020.

ADDRESSES: EPA has established a docket for this action under Docket Identification No. EPA-R04-OAR-2020-0177. All documents in the docket are listed on the www.regulations.gov website. Although listed in the index, some information may not be publicly available, i.e., Confidential Business Information or other information whose disclosure is restricted by statute. Certain other material, such as copyrighted material, is not placed on the internet and will be publicly available only in hard copy form. Publicly available docket materials can either be retrieved electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: D. Brad Akers, Air Regulatory Management Section, Air Planning and Implementation Branch, Air and Radiation Division, U.S. Environmental Protection Agency, Region 4, 61 Forsyth Street SW, Atlanta, Georgia 30303-8960. Mr. Akers can be reached via electronic mail at akers.brad@epa.gov or via telephone at (404) 562-9089.

SUPPLEMENTARY INFORMATION:

I. What is being addressed in this notice?

EPA is approving the following revisions to SIPs received by EPA from Florida, Georgia, Kentucky, Mississippi, North Carolina, and South Carolina: (1) A portion of a SIP revision provided to EPA through the Florida Department of Environmental Protection (FL DEP) via a letter dated December 12, 2011; 1 2 (2) a SIP revision provided to EPA through the Georgia Environmental Protection Division (GA EPD) via a letter dated September 15, 2008; ³ (3) a SIP revision to the Jefferson County portion of the Kentucky SIP that was provided to EPA through the Kentucky Division for Air Quality (KDAQ) via a letter dated July 1, 2009; ⁴ (4) a SIP revision provided to EPA through the Mississippi Department of Environmental Quality (MDEQ) via a letter dated November 28, 2007; (5) a SIP revision provided to EPA through the North Carolina Department of Environmental Quality (NC DEQ) 5 6 7 via a letter dated June 20, 2008; ⁸ and (6) a portion of a SIP revision provided to EPA through the South Carolina Department of Health and Environmental Control (SC DHEC) via a letter dated April 14, 2009,⁹ as updated in a portion of SIP revision provided to EPA via letter dated April 10, 2014.

¹ Florida's definition of “major stationary source” at 62-210.200 is also cross-referenced in the portion of its SIP-approved nonattainment new source review (NA NSR) regulation, 62-212.500, Preconstruction Review in Nonattainment Areas, that sets the fugitive emissions exclusion for determining rule applicability. See Rule 62-212.500(2)(b). If the definition of “chemical process plants” within the term of “major stationary source” were updated to exclude these ethanol producing facilities for the purposes of NA NSR, then fugitive emissions would not need to be considered in determining whether the source is major. All sources in nonattainment areas are major at 100 tpy, and certain classifications of nonattainment areas for ozone and PM2.5 establish lower thresholds for major source applicability. See 40 CFR 51.165(b)(iv)(A). However, Florida's December 12, 2011, submittal did not seek to revise, nor ask EPA to revise, the State's SIP-approved NA NSR program. Therefore, EPA is not approving the revision to the definition of “chemical process plant” within the term “major stationary source” to apply to the NA NSR program. Accordingly, the ethanol production facility exclusion within the definition of “major stationary source” at 62-210.200 will not apply in the SIP for the purposes of determining applicability in Rule 62-212.500, and EPA is noting this in the list of SIP-approved Florida regulations at 40 CFR 52.520(c). There are currently no nonattainment areas in Florida.

² In EPA's July 20, 2020, notice of proposed rulemaking (NPRM), EPA stated that the entire State of Florida had been designated as attainment/unclassifiable for the 2015 8-hour ozone NAAQS. See 85 FR 43788. While the entire State has this designation, in 2018, Duvall County, Florida was designated unclassifiable for the 2015 8-hour ozone NAAQS and was subsequently redesignated to attainment/unclassifiable on November 21, 2019. See 84 FR 64206. EPA has also amended the accompanying technical support document for the State of Florida to correct this historical note. The amended version of the TSD is included in the docket of this action as “Florida TSD_Amended.”

³ EPA received the submittal on September 29, 2008.

⁴ In 2003, the City of Louisville and Jefferson County governments merged and the “Jefferson County Air Pollution Control District” was renamed the “Louisville Metro Air Pollution Control District.” See The History of Air Pollution Control in Louisville, available at https://louisvilleky.gov/government/air-pollution-control-district/history-air-pollution-control-louisville. However, each of the regulations in the Jefferson County portion of the Kentucky SIP still has the subheading “Air Pollution Control District of Jefferson County.” Thus, to be consistent with the terminology used in the SIP, EPA refers throughout this notice to regulations contained in the Jefferson County portion of the Kentucky SIP as the “Jefferson County” regulations.

⁵ At the time of the 2008 submittal, NC DEQ was the North Carolina Department of Environment and Natural Resources. Throughout this rulemaking, EPA will refer to the State Agency as NC DEQ.

⁶ In EPA's July 20, 2020, NPRM, EPA erroneously cited North Carolina's PSD regulation as “15 North Carolina Administrative Code (NCAC) 02D .0530, Prevention of Significant Deterioration. See 85 FR 43788 at 43790 (July 20, 2020). The citation should read “15A North Carolina Administrative Code (NCAC) 02D .0530, Prevention of Significant Deterioration.”

⁷ In EPA's July 20, 2020, NPRM, EPA erroneously stated that North Carolina incorporates portions of “40 CFR 52.21” by reference, which includes the 2007 Ethanol Rule provisions. See 85 FR 43788 at 43790 and 43791. These citations should read as “40 CFR 51.166” throughout Section III.E. of the NPRM, including the citations “40 CFR 51.166(b)(1)(i)(a)” and “40 CFR 51.166(b)(1)(iii)” in lieu of “40 CFR 52.21(b)(1)(i)(a)” and “40 CFR 52.21(b)(1)(iii),” respectively. EPA has also amended the accompanying technical support document for the State of North Carolina to correct these references. The amended version of the TSD is included in the docket of this action as “North Carolina TSD_Amended.”

⁸ EPA received the submission on June 25, 2008.

⁹ In EPA's July 20, 2020, NPRM, EPA erroneously omitted the reference to South Carolina's revision to Rule 61-62.5, Standard No. 7 at (i)(1)(vii)(t) in the State's SIP revision that includes the same ethanol exclusion in the definition of “chemical process plant”. See 85 FR 43788 at 43791. Section III.E of the NPRM should have contained the following statement: `Finally, paragraph (i) for exemptions was revised at (i)(1)(vii) to read: “The source or modification would be a major stationary source or major modification only if fugitive emissions, to the extent quantifiable, are considered in calculating the potential to emit of the stationary source or modification and the source does not belong to any of the following categories (i)(1)(vii): . . . (t) Chemical process plants—The term chemical processing plant shall not include ethanol production facilities that produce ethanol by natural fermentation included in NAICS codes 325193 or 312140 . . .' ” EPA has amended the accompanying technical support document for the State of South Carolina to correct this omission. The amended version of the TSD is included in the docket of this action as “South Carolina TSD_Amended.”

These revisions conform the State rules to changes to EPA regulations reflected in EPA's final rule entitled “Prevention of Significant Deterioration, Nonattainment New Source Review, and Title V: Treatment of Certain Ethanol Production Facilities Under the “Major Emitting Facility” Definition” (hereinafter referred to as the “2007 Ethanol Rule”) as published in the Federal Register on May 1, 2007 (72 FR 24060). The 2007 Ethanol Rule amended the PSD definition of “major stationary source” to exclude certain ethanol facilities from the “chemical process plant” source category and clarified that the PSD major source applicability threshold for certain ethanol plants is 250 tpy (rather than 100 tpy). The 2007 Ethanol Rule also removed the requirement to include fugitive emissions when determining if an ethanol facility is a major source for PSD.

II. Have the requirements for approval of a SIP revision been met?

In its NPRM published on July 20, 2020 (85 FR 43788), EPA identified and evaluated the state and local regulations in the aforementioned SIP revisions that were revised in response to the Ethanol Rule. EPA also explained how these SIP revisions satisfy the completeness criteria of 40 CFR part 51, appendix V and meet the substantive SIP requirements of the CAA, including section 110 and implementing regulations. EPA included technical analyses in separate technical support documents (TSDs) included in the docket for this rulemaking. See these TSDs and the NPRM for further detail on the SIP revisions and EPA's rationale for approving them. EPA did not receive any relevant public comments on the NPRM.¹⁰

¹⁰ EPA received one comment that did not pertain to the July 20, 2020, NPRM. This comment is posted in the docket for this action.

III. Incorporation by Reference

In this rule, EPA is finalizing regulatory text that includes incorporation by reference. In accordance with requirements of 1 CFR 51.5, EPA is finalizing the incorporation by reference the following regulations: Florida Rule 62-210.200, F.A.C., “Definitions,” state effective October 23, 2013; 11 12 Florida Rule 62-212.400, “Prevention of Significant Deterioration,” state effective October 23, 2013; ¹³ Georgia Rule 391-3-1-.02(7), “Prevention of Significant Deterioration of Air Quality (PSD),” state effective July 20, 2017; ¹⁴ Jefferson County Regulation 2.05, “Prevention of Significant Deterioration of Air Quality,” version 13, state effective January 17, 2018 15 16 for the Jefferson County portion of the Kentucky SIP; Mississippi Rule 11 MAC Part 2, Rule 5.2, “Adoption of Federal Rules by Reference,” state effective May 28, 2016; 17 18 North Carolina Rule 02D .0530, “Prevention of Significant Deterioration,” state effective September 1, 2017; ¹⁹ and South Carolina Rule 61-62.5, Standard No. 7, “Prevention of Significant Deterioration,” state effective August 25, 2017.²⁰ EPA has made, and will continue to make, these materials generally available through www.regulations.gov and at the EPA Region 4 Office (please contact the person identified in the “For Further Information Contact” section of this preamble for more information). Therefore, these materials have been approved by EPA for inclusion in the State implementation plan, have been incorporated by reference by EPA into that plan, are fully federally enforceable under sections 110 and 113 of the CAA as of the effective date of the final rulemaking of EPA's approval, and will be incorporated by reference in the next update to the SIP compilation.²¹

¹¹ Except for the purposes of determining applicability in Rule 62-212.500, “Preconstruction Review for Nonattainment Areas.” See footnote 1 for additional information.

¹² The effective date of the change to Florida Rule 62-210.200 made in Florida's December 12, 2011, SIP revision is December 4, 2011. However, for purposes of the state effective date included at 40 CFR 52.520(c), that change to Florida's rule is captured and superseded by Florida's update in a December 19, 2013, SIP revision, state effective on October 23, 2013, which EPA previously approved on May 19, 2014. See 79 FR 28607. Accordingly, EPA is also revising the state effective version for entry 62-210.200 at 40 CFR 52.520(c) to read “October 23, 2013,” as this state effective version captures and supersedes the previously listed March 28, 2012, state effective version.

¹³ The effective date of the change to Florida Rule 62-212.400 made in Florida's December 12, 2011, SIP revision is December 4, 2011. However, for purposes of the state effective date included at 40 CFR 52.520(c), that change to Florida's rule is captured and superseded by Florida's update in a February 27, 2013, SIP revision, state effective on March 28, 2012, which EPA previously approved on September 19, 2012. See 77 FR 58027.

¹⁴ The effective date of the change to Georgia Rule 391-3-1-.02(7) made in Georgia's September 15, 2008, SIP revision is September 11, 2008. However, for purposes of the state effective date included at 40 CFR 52.570(c), that change to Georgia's rule is captured and superseded by Georgia's update in a November 29, 2017, SIP revision, state effective on July 20, 2017, which EPA previously approved on December 4, 2018. See 83 FR 62466.

¹⁵ The effective date of the change to Jefferson County Regulation 2.05 made in Kentucky's July 1, 2009, SIP revision is June 20, 2009. However, for purposes of the state effective date included at 40 CFR 52.920(c), that change to Jefferson County's rule is captured and superseded by Kentucky's update in a March 15, 2018, SIP revision, state effective on January 17, 2018, which EPA previously approved on April 10, 2019. See 84 FR 14268.

¹⁶ EPA is also correcting an inadvertent error for the entry at Jefferson County Regulation 2.05 at 40 CFR part 52.920(c), Table 2 in the “Title/subject” column to read “Prevention of Significant Deterioration.” EPA erroneously revised the entry to read “Permits” in an April 10, 2019, final rule. See 84 FR 14268.

¹⁷ The effective date of the change to Mississippi Rule APC-S-5, “Regulations for the Prevention of Significant Deterioration of Air Quality” made in Mississippi's November 28, 2007, SIP revision is August 23, 2007. However, for purposes of the state effective date included at 40 CFR 52.1270(c), that change to Mississippi's rule is captured and superseded by Mississippi's update in a June 7, 2016, SIP revision, state effective on May 28, 2016, which EPA previously approved on August 8, 2017. See 82 FR 37015. Furthermore, Mississippi has recodified previous Rule APC-S-5 as 11 MAC Part 2, Rule 5, with the relevant part from the November 28, 2007, SIP revision now included in Rule 5.2.

¹⁸ EPA is also revising the entry for 11 MAC Part 2—Chapter 5, Rule 5.1 at 40 CFR 52.1270(c) to remove related explanatory notes that are not applicable to this Rule. EPA is not revising Rule 5.1 in a substantive manner.

¹⁹ The effective date of the change to North Carolina Rule 02D .0530 made in North Carolina's June 20, 2008, SIP revision is May 1, 2008. However, for purposes of the state effective date included at 40 CFR 52.1770(c), that change to North Carolina's rule is captured and superseded by North Carolina's update in a October 17, 2017, SIP revision, state effective on September 1, 2017, which EPA previously approved on September 11, 2018. See 82 FR 45827.

²⁰ The effective date of the change to South Carolina Rule 61-62.1, Standard No. 7 made in South Carolina's April 10, 2014, SIP revision is December 27, 2013. However, for purposes of the state effective date included at 40 CFR 52.2120(c), that change to South Carolina's rule is captured and superseded by South Carolina's update in a September 5, 2017, SIP revision, state effective on August 25, 2017, which EPA previously approved on February 13, 2019. See 84 FR 3705.

²¹ See 62 FR 27968 (May 22, 1997).

IV. Final Action

EPA is approving revisions to the Florida SIP, Georgia SIP, the Jefferson County portion of the Kentucky SIP, Mississippi SIP, North Carolina SIP, and South Carolina SIP. The revisions to the state and local rules that EPA is approving change the definition of “major stationary source” under the States' and local agency's PSD regulations. These changes make clear that the PSD applicability threshold for certain ethanol plants is 250 tpy and remove the requirement to include fugitive emissions when determining if an ethanol plant is a major source for PSD (see section III for the rules being revised). EPA has determined that these revisions are consistent with EPA's PSD regulations and that approval of these revisions is consistent with the requirements of CAA section 110(l) and will not adversely impact air quality. EPA's analysis is available in the NPRM and the TSDs that were prepared for each SIP revision and are in the docket for this action. Approval of the revisions to these SIPs will ensure consistency between the State and federally approved rules and ensure federal enforceability of the State's revised air program rules.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely approves state law as meeting Federal requirements and does not impose additional requirements beyond those imposed by state law. For that reason, these actions:

• Are not significant regulatory actions subject to review by the Office of Management and Budget under Executive Orders 12866 (58 FR 51735, October 4, 1993) and 13563 (76 FR 3821, January 21, 2011);

• Are not Executive Order 13771 (82 FR 9339, February 2, 2017) regulatory actions because SIP approvals are exempted under Executive Order 12866;

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not economically significant regulatory actions based on health or safety risks subject to Executive Order 13045 (62 FR 19885, April 23, 1997);

• Are not significant regulatory actions subject to Executive Order 13211 (66 FR 28355, May 22, 2001);

• Are not subject to requirements of Section 12(d) of the National Technology Transfer and Advancement Act of 1995 (15 U.S.C. 272 note) because application of those requirements would be inconsistent with the CAA; and

• Do not provide EPA with the discretionary authority to address, as appropriate, disproportionate human health or environmental effects, using practicable and legally permissible methods, under Executive Order 12898 (59 FR 7629, February 16, 1994).

The SIPs subject to these actions, with the exception of the South Carolina SIP, are not approved to apply on any Indian reservation land or in any other area where EPA or an Indian tribe has demonstrated that a tribe has jurisdiction. In those areas of Indian country, the rules regarding SIPs do not have tribal implications as specified by Executive Order 13175 (65 FR 67249, November 9, 2000), nor will they impose substantial direct costs on tribal governments or preempt tribal law. With respect to the South Carolina SIP, because this final action merely approves state law as meeting Federal requirements and does not impose additional requirements beyond those imposed by state law, this final action for the State of South Carolina does not have Tribal implications as specified by Executive Order 13175 (65 FR 67249, November 9, 2000). Therefore, this action will not impose substantial direct costs on Tribal governments or preempt Tribal law. The Catawba Indian Nation (CIN) Reservation is located within the boundary of York County, South Carolina. Pursuant to the Catawba Indian Claims Settlement Act, S.C. Code Ann. 27-16-120 (Settlement Act), “all state and local environmental laws and regulations apply to the [Catawba Indian Nation] and Reservation and are fully enforceable by all relevant state and local agencies and authorities.” The CIN also retains authority to impose regulations applying higher environmental standards to the Reservation than those imposed by state law or local governing bodies, in accordance with the Settlement Act.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 16, 2020. Filing a petition for reconsideration by the Administrator of this final rule does not affect the finality of this action for the purposes of judicial review, nor does it extend the time within which a petition for judicial review may be filed, and shall not postpone the effectiveness of such rule or action. This action may not be challenged later in proceedings to enforce its requirements. See section 307(b)(2).

List of Subjects in 40 CFR Part 52

Environmental protection, Air pollution control, Incorporation by reference, Intergovernmental relations, Nitrogen dioxide, Ozone, Particulate matter, Reporting and recordkeeping requirements, Volatile organic compounds.

Dated: August 27, 2020.
Mary Walker,
Regional Administrator, Region 4.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart K—Florida

2. In § 52.520, amend the table in paragraph (c) by:

a. Under “Chapter 62-210 Stationary Sources—General Requirements”, revising the entry for “62-210.200” and;

b. Under “Chapter 62-212 Stationary Sources—Preconstruction Review”, revising the entries for “62-212.400” and “62-212.500”.

The revisions read as follows:

§ 52.520 Identification of plan.

* * * * *

(c) * * *

EPA Approved Florida Regulations
State citation (section) | Title/subject | State effective date | EPA approval date | Explanation
* * * * * * *
Chapter 62-210 Stationary Sources—General Requirements
62-210.200 | Definitions | 10/23/2013 | 9/16/2020, [Insert citation of publication] | The ethanol production facility exclusion within the definition of “major stationary source” at 62-210.200 does not apply to 62-212.500. Except the following definitions: “animal crematory”; “biological waste”; “biological waste incinerator”; “biomedical waste”; “capture efficiency”; “cast polymer operation”; “human crematory”; “major source of air pollution,” “major source,” or “title V source”; “printed interior panels”; “unit-specific applicable requirement”; and “waste-to-energy facility”.
* * * * * * *
Chapter 62-212 Stationary Sources—Preconstruction Review
* * * * * * *
62-212.400 | Prevention of Significant Deterioration | 3/28/2012 | 9/16/2020, [Insert citation of publication] | Except the provisions for the PM2.5 significant impact levels at (5)(b).
62-212.500 | Preconstruction Review for Nonattainment Areas | 2/2/2006 | 6/27/2008, 73 FR 36435 | The ethanol production facility exclusion within the definition of “major stationary source” at 62-210.200 does not apply to 62-212.500.
* * * * * * *

* * * * *

Subpart L—Georgia

3. In § 52.570 amend the table in paragraph (c) by revising the entry for “391-3-1-.02(7)” to read as follows:

§ 52.570 Identification of plan.

* * * * *

(c) * * *

EPA Approved Georgia Regulations
State citation | Title/subject | State effective date | EPA approval date | Explanation
* * * * * * *
391-3-1-.02(7) | Prevention of Significant Deterioration of Air Quality (PSD) | 7/20/2017 | 9/16/2020, [Insert citation of publication] | Except for the automatic rescission clause at 391-3-1 -.02(7)(a)(2)(iv), which EPA disapproved on March 4, 2016. Except for portions of Rule 391-3-1-.02(7) incorporating by reference 40 CFR 52.21(b)(2)(v), and 40 CFR 52.21(b)(3)(iii)(c), because those CFR provisions were indefinitely stayed by the Fugitive Emissions Rule in the March 30, 2011 rulemaking and have not been approved into the Georgia SIP.
* * * * * * *

* * * * *

Subpart S—Kentucky

4. In § 52.920 amend Table 2 in paragraph (c), Table 2 by revising the entry for “2.05” under “Reg 2—Permit Requirements” to read as follows:

§ 52.920 Identification of plan.

* * * * *

(c) * * *

Table 2—EPA-Approved Jefferson County Regulations for Kentucky
Reg | Title/subject | EPA approval date | Federal Register notice | District effective date | Explanation
* * * * * * *
Reg 2—Permit Requirements
* * * * * * *
2.05 | Prevention of Significant Deterioration of Air Quality | 9/16/2020 | [Insert citation of publication] | 1/17/2018 | This approval does not include Jefferson County's revisions to incorporate by reference the Fugitive Emissions Rule (December 19, 2008).
* * * * * * *

* * * * *

Subpart Z—Mississippi

5. In § 52.1270 amend the table in paragraph (c) by revising the heading for “11 MAC Part 2—Chapter 5” and the entries for “Rule 5.1” and “Rule 5.2” to read as follows:

§ 52.1270 Identification of plan.

* * * * *

(c) * * *

EPA-Approved Mississippi Regulations
State citation | Title/subject | State effective date | EPA approval date | Explanation
* * * * * * *
11 MAC Part 2—Chapter 5 Regulations for the Prevention of Significant Deterioration of Air Quality
Rule 5.1 | Purpose of this Regulation | 5/28/2016 | 8/8/2017, 82 FR 37015
Rule 5.2 | Adoption of Federal Rules by Reference | 5/28/2016 | 9/16/2020, [Insert citation of publication] | The version of Rule 5.2 in the SIP does not incorporate by reference the provisions at § 52.21(b)(2)(v) and (b)(3)(iii)(c) that were stayed indefinitely by the Fugitive Emissions Interim Rule (published in the Federal Register March 30, 2011).

* * * * *

Subpart II—North Carolina

6. In § 52.1770 amend Table (1) in paragraph (c) by revising the entries for “Section .0530” and “Section .0531” under Subchapter 2D, “Air Pollution Control Requirements” under Section .0500, “Emission Control Standards” to read as follows:

§ 52.1770 Identification of plan.

* * * * *

(c) * * *

EPA-Approved North Carolina Regulations
State citation | Title/subject | State effective date | EPA approval date | Explanation
Subchapter 2D Air Pollution Control Requirements
* * * * * * *
Section .0500 Emission Control Standards
* * * * * * *
Section .0530 | Prevention of Significant Deterioration | 9/1/2017 | 9/16/2020, [Insert citation of publication]
Section .0531 | Sources in Nonattainment Areas | 9/1/2013 | 9/14/2016, 81 FR 63107 | The version of Section .0531 in the SIP does not incorporate by reference the provisions amended in the Ethanol Rule (published in the Federal Register on May 1, 2007) that excludes facilities that produce ethanol through a natural fermentation process from the definition of “chemical process plants” at § 52.21(b)(1)(i)(a) and (b)(1)(iii)(t).
* * * * * * *

* * * * *

Subpart PP—South Carolina

7. In § 52.2120 amend the table in paragraph (c) by revising the entry for “Standard No. 7” under “Regulation No. 62.5” to read as follows:

§ 52.2120 Identification of plan.

* * * * *

(c) * * *

EPA-Approved South Carolina Regulations
State citation | Title/subject | State effective date | EPA approval date | Explanation
* * * * * * *
Regulation No. 62.5 | Air Pollution Control Standards. |  |  |
* * * * * * *
Standard No. 7 | Prevention of Significant Deterioration | 8/25/2017 | 9/16/2020, [Insert citation of publication] | Except Standard No. 7, paragraphs (b)(30)(v) and (b)(34)(iii)(d), which the state withdrew from EPA's consideration for approval on December 20, 2016. Except Standard No. 7, paragraph (b)(34)(iii)(c), approved conditionally on June 2, 2008, and approved fully on June 23, 2011, with a state effective date of June 25, 2005.
* * * * * * *

* * * * *

[FR Doc. 2020-19341 Filed 9-15-20; 8:45 am]

BILLING CODE 6560-50-P